DEPARTMENT OF COMMERCE

Foreign-Trade Zones Board

[B-34-2012]

Foreign-Trade Zone 45—Portland, OR, Notification of Proposed Production Activity, Shimadzu USA Manufacturing, Inc. (Chromatograph and Mass Spectrometer Production), Canby, OR

The Port of Portland, grantee of FTZ 45, submitted a notification of proposed production activity on behalf of Shimadzu USA Manufacturing, Inc. (Shimadzu), for its facility located in Canby, Oregon. An application for subzone status at the facility was also submitted and will be processed under Section 400.31 of the Board's regulations. The facility is used for the production of chromatographs, mass spectrometers and related equipment such as liquid chromatograph pumps, fraction collectors, auto samplers, lab instruments, controllers, and column ovens.

Production under FTZ procedures could exempt Shimadzu from customs duty payments on the foreign status components used in export production. On its domestic sales, Shimadzu would be able to choose the duty rates during customs entry procedures that apply to the finished equipment (duty free to 2.7%) for the foreign status inputs noted below. Customs duties also could possibly be deferred or reduced on foreign status production equipment.

Components and materials sourced from abroad include: Ethanol; naphthalenes; mineral oil; sulfuric acid; nitric acid; phosphoric acid; silica gel sacs; deionized water; trimethylpentane; benzene; anthracene; methanol; isopropyl alcohol; ethylene glycol; acetone; perfluorotributylamine; primer; nitrile function compounds, including acetonitrile and nitrophenol; silicone compounds; lubricating oils; grease; adhesives; photographic film; activated carbon; sealing compounds; articles of plastic, including pipes, hoses and fittings, film, sheets, shapes, bags, bottles, lids and caps; hardware and fasteners; self-adhesive labels and tapes; sponges; articles of rubber, including belts, o-rings, gaskets, seals, and stoppers; wood cases; self-adhesive paper; direct thermal paper; cleaning wipes; cardboard boxes; notebooks and binders; filter paper; technical books and manuals; textile-covered foam shielding; ceramic hardware and fittings; lab glassware; wool and fiberglass insulation; glass insulator pins; gold-plated screws; plungers and ball seat sets of semi-precious stones; zinc-coated wire; articles of stainless steel, including bars; pipes, tubing, fittings, mesh, and hardware; brass and copper hardware; articles of aluminum, including washers, sheets and foil; bearings, hand tools; metal fittings; pumps; fans; refrigeration and freezing equipment; heat exchangers; filtering equipment; work holders and jigs; computer equipment; mechanical appliances; metal machined parts; valves; bearings; transmission parts; gears; pulleys; motors; transformers; power supplies; magnets; magnetic parts; lithium-ion batteries; column ovens; heaters and parts; recording media; capacitors; resistors; fuses; sensors; switches; lamp holders; connectors; terminals; programmable controllers; control panel assemblies; lamps; LEDs; photo sensors; diodes; EEPROMs; wires and cables (including fiber optic cable); insulators; filters; lenses; mirrors; prisms; other optical elements; flat panel displays; thermometers; electrical pressure gauges; measuring instruments and sensors; chromatographs and parts; spectroscopes and parts; and other testing machines (duty rates range from free to 10.7%). The request indicates that certain bearings are subject to an antidumping/countervailing duty (AD/CVD) order. The FTZ regulations (15 CFR 400.14(e)) require that merchandise subject to AD/CVD actions be admitted to the zone in privileged foreign status (19 CFR 146.41).

Public comment is invited from interested parties. Submissions shall be addressed to the Board's Executive Secretary at the address below. The closing period for their receipt is June 25, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: May 8, 2012.
Elizabeth Whiteman,
Acting Executive Secretary.

[FR Doc. 2012-11652 Filed 5-11-12; 8:45 am]

BILLING CODE 3510-DS-P